DEPARTMENT OF THE TREASURY

Internal Revenue Service

26 CFR Part 1

[REG-103805-99]

RIN 1545-AX56

Agent for Consolidated Group; Hearing Cancellation

AGENCY: Internal Revenue Service (IRS), Treasury.

ACTION: Cancellation of notice of public hearing on proposed rulemaking.

SUMMARY: This document provides notice of cancellation of a public hearing on proposed regulations that address certain issues concerning the agent for an affiliated group when the common parent ceases to be the common parent, as well as questions concerning the scope of the common parent's authority.

DATES: The public hearing originally scheduled for January 22, 2001, at 10 a.m., is cancelled.

FOR FURTHER INFORMATION CONTACT: Sonya M. Cruse of the Regulations Unit at (202) 622-7180 (not a toll-free number).

SUPPLEMENTARY INFORMATION: A notice of proposed rulemaking and notice of public hearing that appeared in the Federal Register on September 26, 2000, (65 FR 57755), announced that a public hearing was scheduled for January 22, 2001, at 10 a.m., at the Internal Revenue Service, 1111 Constitution Avenue, NW., room 4718. The subject of the public hearing is proposed regulations under section 1502 of the Internal Revenue Code. The public comment period for these proposed regulations expired on January 1, 2001.

The notice of proposed rulemaking and notice of public hearing, instructed those interested in testifying at the public hearing to submit a request to speak and an outline of the topics to be addressed. As of January 8, 2001, no one has requested to speak. Therefore, the public hearing scheduled for January 22, 2001, is cancelled .

Cynthia Grigsby,
Chief, Regulations Unit, Office of Special Counsel (Modernization and Strategic Planning).

[FR Doc. 01-982 Filed 1-11-01; 8:45 am]

BILLING CODE 4830-01-P